Memorandum of January 31, 2013

Delegation of a Reporting Authority

Memorandum for the Secretary of Transportation

By the authority vested in me as President by the Constitution and the laws of the United States, including section 301 of title 3, United States Code, I hereby delegate to you the functions and authority conferred upon the President by section 1306 of the Moving Ahead for Progress in the 21st Century Act (MAP-21), Public Law 112-141, to make the specified reports to the Congress.

You are authorized and directed to notify the appropriate congressional committees and publish this memorandum in the Federal Register.

THE WHITE HOUSE,

Washington, January 31, 2013.

[FR Doc. 2013-02760

Filed 2-5-13; 8:45 am]

Billing code 4910-9